DEPARTMENT OF JUSTICE

Notice of Lodging of Consent Decree Under the Clean Air Act Between the United States, the State of South Carolina, and the South Carolina Public Service Authority

Under 28 CFR 50.7, notice is hereby given that on March 16, 2004, a proposed consent decree (“Consent Decree”) between the United States, the South Carolina Department of Health and Environmental Control (“DHEC”), and the South Carolina Public Service Authority (“Santee Cooper”), Civil Action No. 2-04-0822-18, was lodged with the United States District Court for the District of South Carolina.

The Consent Decree would resolve the civil claims asserted by the United States against Santee Cooper pursuant to Sections 113(b) and 167 of the Clean Air Act (“the Act”), 42 U.S.C. 7413(b) and 7477, for injunctive relief and the assessment of civil penalties for violations of the Prevention of Significant Deterioration (“PSD”) provisions of the Act, 42 U.S.C. 7470-92, title V of the Act, 42 U.S.C. 7661, et seq., and the federally approved and enforceable South Carolina State Implementation Plan (the “SIP”).

The complaint filed by the United States alleges, among other things, that between 1980 and the present, Santee Cooper modified and thereafter operated certain coal-fired electricity generation units without first obtaining a PSD permit authorizing the construction and without installing the best available technology to control emissions of sulfur dioxide (SO2), nitrogen oxides (NOX), and particular matter (PM), as required by the Act, applicable Federal regulations, and the SIP. In addition, in late 2002 and 2003, Santee Cooper commenced and continued construction of a wholly new coal-fired electricity generating unit without first obtaining a PSD SIP.

The proposed Consent Decree covers Santee Cooper's four coal-fired power plants in South Carolina: the Cross Plant located in Pineville, Berkeley County; the Grainger Plant located in Conway, Horry County; the Jefferies Plant located in Moncks Corner, Berkeley County; and the Winyah Plant located in Georgetown, Georgetown County. Under the terms of the proposed Consent Decree, Santee Cooper will install or upgrade pollution controls for SO2, NOX, and PM at more than 80% of the electricity-generating capacity of these four plants. Santee Cooper will also pay $2.0 million in civil penalties and to undertake $4.5 million in additional injunctive relief.

The Department of Justice will receive for a period of thirty (30) days from the date of this publication comments relating to the Consent Decree. Comments should be addressed to the Assistant Attorney General, Environment and Natural Resources Division, P.O. Box 7611, U.S. Department of Justice, Washington, DC 20044-7611, and should refer to United States v. South Carolina Public Service Authority, D.J. Ref. No. 90-5-2-1-07492.

The Consent Decree may be examined at the Office of the United States Attorney, District of South Carolina, 151 Meeting Street, 2d Floor, Charleston, SC 29402. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $26.25 (25 cents per page reproduction cost) payable to the U.S. Treasury.

Thomas A. Mariani, Jr.,
Assistant Chief, Environmental Enforcement Section, Environment and Natural Resources Division.

[FR Doc. 04-7241 Filed 3-30-04; 8:45 am]

BILLING CODE 4410-15-M